DEPARTMENT OF DEFENSE

Department of the Army

[Docket ID USA-2009-0027]

Privacy Act of 1974; System of Records

AGENCY: Department of the Army, DoD.

ACTION: Notice to alter a system of records.

SUMMARY: The Department of the Army is proposing to alter a system of records in its existing inventory of records systems subject to the Privacy Act of 1974, (5 U.S.C. 552a), as amended.

DATES: The proposed action will be effective on October 22, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Leroy Jones, (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 14, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 14, 2009.
Patricia L. Toppings,
OSD Federal Register Liaison Officer,
Department of Defense.

A0145-2 TRADOC

SYSTEM NAME:

Junior ROTC/NDCC Instructor Files (October 5, 2000, 65 FR 59403)

CHANGES:

* * * * *

SYSTEM NAME:

Delete entry and replace with “Junior ROTC/National Defense Cadet Corps Instructor Files.”

SYSTEM LOCATION:

Delete entry and replace with “Department of the Army, Headquarters, United States Army Cadet Command (ATCC-JRI), 55 Patch Road, Fort Monroe, VA 23651-5000.”

CATEGORIES OF INDIVIDUALS COVERED BY THE SYSTEM:

Delete entry and replace with “Retired officers and noncommissioned officers requesting to be certified, those already certified waiting to be assigned as instructors or presently working as a Junior Reserve Officers Training Corps instructor.”

* * * * *

AUTHORITY FOR MAINTENANCE OF THE SYSTEM:

Delete entry and replace with “10 U.S.C. 2031, Junior Reserve Officers' Training Corps; 10 U.S.C. 3013, Secretary of the Army; Army Regulation 145-2, Organization, Administration, Operation, and Support; and E.O. 9397 (SSN), as amended.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the Army's compilation of systems of records notices also apply to this system.”

* * * * *

STORAGE:

Delete entry and replace with “Electronic storage media and paper records.”

RETRIEVABILITY:

Delete entry and replace with “By name or Social Security Number (SSN).”

SAFEGUARDS:

Delete entry and replace with “Records are stored on data repository servers located in U.S. Army Accessions Command G-6 Network Operations Center at Fort Monroe Virginia, and on continuity of operations servers located at the U.S. Army Accessions Command G-6 Network Operations Center in Indianapolis, Indiana. In addition, the system will be a controlled system with passwords, and Common Access Card (CAC) governing access to data.”

RETENTION AND DISPOSAL:

Delete entry and replace with “Records are maintained then destroyed 2 years after instructor's separation. Hardcopy records are shredded after they are scanned into the system. Once in the system and have reached the disposition date they will be electronically deleted.”

SYSTEM MANAGER(S) AND ADDRESS:

Delete entry and replace with “Commander, U.S. Army Cadet Command (ATCC-JRI), 55 Patch Road, Fort Monroe, VA 23651-5000.”

NOTIFICATION PROCEDURE:

Delete entry and replace with “Individuals seeking to determine whether information about themselves is contained in this record system should address written inquiries to the Department of the Army, Headquarters, United States Army Cadet Command (ATCC-JRI), 55 Patch Road, Fort Monroe, VA 23651-5000.

Individual should provide full name, Social Security Number (SSN) or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

RECORD ACCESS PROCEDURES:

Delete entry and replace with “Individuals seeking access to information about themselves contained in this system should address written inquiries to the Department of the Army, Headquarters, United States Army Cadet Command (ATCC-JRI), 55 Patch Road, Fort Monroe, VA 23651-5000.

Individual should provide full name, Social Security Number (SSN) or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

* * * * *

RECORD SOURCE CATEGORIES:

Delete entry and replace with “Individual retired and noncommissioned officer instructor applicants, staff and faculty of appropriate high school and supporting district and U.S. Army Cadet Command brigade responsible for overseeing the Program of Instruction being conducted and the operation of the units at schools in their area of operation.”

* * * * *

A0145-2 TRADOC

SYSTEM NAME:

Junior ROTC/National Defense Cadet Corps Instructor Files.

SYSTEM LOCATION:

Department of the Army, Headquarters, United States Army Cadet Command, (ATCC-JRI), 55 Patch Road, Fort Monroe, VA 23651-5000.

CATEGORIES OF INDIVIDUALS COVERED BY THE SYSTEM:

Retired officers and noncommissioned officers requesting to be certified, those already certified waiting to be assigned as instructors or presently working as a Junior Reserve Officers Training Corps instructor.

CATEGORIES OF RECORDS IN THE SYSTEM:

Name, Social Security Number (SSN), instructor evaluation forms, qualification data, biographical sketches and similar or related documents.

AUTHORITY FOR MAINTENANCE OF THE SYSTEM:

10 U.S.C. 2031, Junior Reserve Officers' Training Corps; 10 U.S.C. 3013, Secretary of the Army; Army Regulation 145-2, Organization, Administration, Operation, and Support; and E.O. 9397 (SSN), as amended.

PURPOSE(S):

To provide record of qualifications, experience, effectiveness, and similar related information on potential and/or assigned instructors and guest speakers.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained herein may specifically be disclosed outside the DoD as a routine use pursuant to 5 U.S.C. 552a(b)(3) as follows:

The DoD “Blanket Routine Uses” set forth at the beginning of the Army's compilation of systems of records notices also apply to this system.

POLICIES AND PRACTICES FOR STORING, RETRIEVING, ACCESSING, RETAINING, AND DISPOSING OF RECORDS IN THE SYSTEM:

STORAGE:

Electronic storage media and paper records.

RETRIEVABILITY:

By name or Social Security Number (SSN).

SAFEGUARDS:

Records are stored on data repository servers located in U.S. Army Accessions Command G-6 Network Operations Center at Fort Monroe Virginia, and on continuity of operations servers located at the U.S. Army Accessions Command G-6 Network Operations Center in Indianapolis, Indiana. In addition, the system will be a controlled system with passwords, and Common Access Card (CAC) governing access to data.

RETENTION AND DISPOSAL:

Records are maintained then destroyed 2 years after instructor's separation. Hardcopy records are shredded after they are scanned into the system. Once in the system and have reached the disposition date they will be electronically.

SYSTEM MANAGER(S) AND ADDRESS:

Commander, U.S. Army Cadet Command (ATCC-JRI), 55 Patch Road, Fort Monroe, VA 23651-5000.

NOTIFICATION PROCEDURE:

Individuals seeking to determine whether information about themselves is contained in this record system should address written inquiries to the Department of the Army, Headquarters, United States Army Cadet Command (ATCC-JRI), 55 Patch Road, Fort Monroe, VA 23651-5000.

Individual should provide full name, Social Security Number (SSN), or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)’.

RECORD ACCESS PROCEDURES:

Individuals seeking access to information about themselves contained in this system should address written inquiries to the Department of the Army, Headquarters, United States Army Cadet Command, (ATCC-JRI), 55 Patch Road, Fort Monroe, VA 23651-5000.

Individual should provide full name, Social Security Number (SSN), or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

CONTESTING RECORD PROCEDURES:

The Army's rules for accessing records, contesting contents; and appealing initial agency determinations are contained in Army Regulation 340-21; 32 CFR part 505; or may be obtained from the system manager.

RECORD SOURCE CATEGORIES:

Individual retired and noncommissioned officer instructor applicants, staff and faculty of appropriate high school and supporting district and U.S. Army Cadet Command brigade responsible for overseeing the Program of Instruction being conducted and the operation of the units at schools in their area of operation.

EXEMPTIONS CLAIMED FOR THE SYSTEM:

None.

[FR Doc. E9-22790 Filed 9-21-09; 8:45 am]

BILLING CODE 5001-06-P